ENVIRONMENTAL PROTECTION AGENCY

[EPA-R10-OAR-2010-1914; FRL-9664-7]

Adequacy Status of the Eagle River, Alaska Particulate Matter Limited Maintenance Plan for Transportation Conformity Purposes

AGENCY: Environmental Protection Agency (EPA).

ACTION: Notice of adequacy determination.

SUMMARY: In this action, EPA is notifying the public of its finding that the Eagle River, Alaska, Particulate Matter (PM10) Limited Maintenance Plan, submitted by the State of Alaska on September 20, 2011, is adequate for conformity purposes. EPA made this finding pursuant to the adequacy process established at 40 CFR 93.118(f)(1). As a result of our adequacy finding, conformity requirements will be reduced.

DATES: This finding is effective May 14, 2012.

FOR FURTHER INFORMATION CONTACT: The finding will be available at EPA's conformity Web site: http://www.epa.gov/otaq/stateresources/transconf/adequacy.htm. You may also contact Wayne Elson, U.S. EPA, Region 10 (OAWT-107), 1200 Sixth Ave, Suite 900, Seattle WA 98101; (206) 553-1463 or elson.wayne@epa.gov.

SUPPLEMENTARY INFORMATION: This action provides notice of EPA's adequacy finding regarding the PM10 Limited Maintenance Plan for Eagle River, Alaska. EPA's finding was made pursuant to the adequacy review process for implementation plan submissions delineated at 40 CFR 93.118(f)(1) under which EPA reviews the adequacy of an state implementation plan (SIP) submission prior to EPA's final action on the implementation plan.

On September 20, 2011, Alaska Department of Environmental Conservation submitted a PM10 maintenance plan revision to EPA. Pursuant to 40 CFR 93.118 (f)(1), EPA notified the public of its receipt of this plan that would be reviewed for an adequacy determination on EPA's Web site and requested public comment by no later than February 27, 2012. EPA received no comments on the plan during that comment period. As part of our review, we also reviewed comments submitted to the Alaska Department of Environmental Conservation on the Limited Maintenance Plan during the public hearing process. There were no adverse comments submitted during the State hearing process regarding the new Plan. EPA Region 10 sent a letter to the Alaska Department of Environmental Conservation on April 2, 2012, subsequent to the close of the comment period stating EPA found the Eagle River PM10 Limited Maintenance Plan to be adequate for use in transportation conformity.

Because limited maintenance plans do not contain budgets, as provided in 40 CFR 93.109(l), the adequacy review period for these maintenance plans serves to allow the public to comment on whether limited maintenance is appropriate for these areas. As a result of this adequacy finding, the Municipality of Anchorage, Alaska Department of Transportation & Public Facilities, and the U.S. Department of Transportation are no longer required to conduct a regional emissions analysis for conformity. However, other conformity requirements still remain such as consultation (40 CFR 93.112), transportation control measures (40 CFR 93.113), and project level analysis (40 CFR 93.116).

Transportation conformity is required by section 176(c) of the Clean Air Act. EPA's conformity rule requires transportation plans, programs, and projects to conform to SIPs and establishes the criteria and procedures for determining whether or not they do. Conformity to a SIP means that transportation activities will not produce new air quality violations, worsen existing violations, or delay timely attainment of the national ambient air quality standards.

The minimum criteria by which we determine whether a SIP is adequate for conformity purposes are specified at 40 CFR 93.118(e)(4). EPA's analysis of how the state's submission satisfies these criteria is found in the Technical Support Document. EPA's adequacy review is separate from EPA's SIP completeness review and it also should not be used to prejudge EPA's ultimate approval of the SIP. Even if we find the SIP adequate for conformity purposes, the SIP could later be disapproved.

Authority: 42 U.S.C. 7401-7671q.

Dated: April 16, 2012.
Dennis J. McLerran,
Regional Administrator, Region 10.

[FR Doc. 2012-10203 Filed 4-26-12; 8:45 am]

BILLING CODE 6560-50-P